Proclamation 10638 of September 29, 2023

National Domestic Violence Awareness and Prevention Month, 2023

By the President of the United States of America

A Proclamation

Domestic violence touches every community in this Nation. Americans of every race, religion, and background are affected; its consequences transcend generations, impacting children and reshaping whole families. During National Domestic Violence Awareness and Prevention Month, we stand with the tens of millions of people who have experienced intimate partner violence, and we thank the first responders, service providers, and community members who work to make sure that every American can live in safety, with dignity and respect.

I was always taught there is no worse sin than the abuse of power, especially when that abuse is directed toward a partner. But just decades ago, much of our Nation wanted to keep the issue of domestic violence in the shadows. Survivors sat in shame, and society often looked away from what people too often dismissed as a “family affair.”

I have spent more than 30 years of my life working to change that—to end gender-based violence in the United States and around the world. I wrote the original Violence Against Women Act (VAWA) in 1990, which made strides toward shifting the legal and social burdens away from survivors, holding offenders accountable, and addressing gendered violence as a shared priority with a determined and coordinated response. That law introduced our Nation to countless brave survivors, whose stories changed the way America saw this issue. It created the National Domestic Violence Hotline to provide confidential support nationwide. It supported shelters, rape crisis centers, housing, and legal assistance, creating life-saving options for survivors and their children. And it helped to train police, advocates, prosecutors, and judges to make our justice system more responsive to survivors. It saved lives and helped survivors rebuild.

Since then, every time we have reauthorized VAWA, we have improved it—broadening its scope to include stalking and sexual assault in 2000, expanding access to services for immigrants and communities of color in 2005, and recognizing criminal jurisdiction of Tribal courts over non-Indian perpetrators and protections for LGBTQI+ individuals in 2013. And last year, we reauthorized VAWA again and strengthened access to services for survivors from underserved and marginalized communities, expanded special Tribal criminal jurisdiction with support for Native communities, and recognized the need to combat cybercrimes and address online harassment and abuse. We brought the Federal Government's investment in life-saving gender-based violence programs to $700 million this year alone—the highest funding level in history—and to $1 billion in next year's budget.

Last year, I also signed the most significant gun safety law we have had in nearly 30 years, which keeps firearms out of the hands of convicted domestic abusers. Another law I signed ensures we continue to sustain the Crime Victims Fund to help domestic violence survivors cover abuse-related costs like medical bills, lost wages, and temporary housing. And further, I signed a law empowering survivors of workplace sexual assault and sexual harassment to take their cases to court. We fundamentally transformed how the military prosecutes sexual assault and domestic violence within its ranks, shifting to specialized prosecutors independent from commanders. We have established a civil cause of action for anyone who has had their intimate photos shared without their consent, and we are working to prevent the spread of deepfake non-consensual images too. And last May, we released the first-ever National Plan to End Gender-Based Violence, laying out a Government-wide plan to prevent and address sexual violence, intimate partner violence, stalking, and other forms of gender-based violence.

Despite all this progress, we have more to do. Four in 10 American women and nearly 3 in 10 American men are still impacted by sexual abuse, physical violence, or stalking by an intimate partner at some point in their lifetimes. If you or someone you know needs help today, immediate and confidential support is available 24/7 through the National Domestic Violence Hotline by visiting thehotline.org, call 1-800-799-7233 (TTY 1-800-787-3224), or text “START” to 88788.

Every survivor should know that they are not alone and they deserve better. Together, we will keep spreading awareness, changing culture, supporting survivors, and moving toward a world free of gender-based violence.

NOW, THEREFORE, I, JOSEPH R. BIDEN JR., President of the United States of America, by virtue of the authority vested in me by the Constitution and the laws of the United States, do hereby proclaim October 2023 as National Domestic Violence Awareness and Prevention Month. I call upon each of us to change the social norms that permit domestic violence, provide meaningful support to survivors, and express gratitude to those working diligently on prevention and response efforts. Together, we can transform the country and build a Nation where all people live free from violence.

IN WITNESS WHEREOF, I have hereunto set my hand this twenty-ninth day of September, in the year of our Lord two thousand twenty-three, and of the Independence of the United States of America the two hundred and forty-eighth.

[FR Doc. 2023-22239

Filed 10-3-23; 8:45 am]

Billing code 3395-F4-P